DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 72 FR 67308, dated November 28, 2007) is amended to reflect the title change for the Division of Nutrition, Physical Activity, and Obesity Prevention, National Center for Chronic Disease Prevention and Health Promotion, Coordinating Center for Health Promotion, Centers for Disease Control and Prevention.

Section C-B, Organization and Functions, is hereby amended as follows:

Delete in its entirety the title for the Division of Nutrition, Physical Activity, and Obesity Prevention (CUCH) and insert the Division of Nutrition, Physical Activity, and Obesity (CUCH).

Dated: January 28, 2008.
Joseph Henderson, M.P.A.,
Acting Chief Operating Officer, Centers for Disease Control and Prevention (CDC).

[FR Doc. 08-486 Filed 2-4-08; 8:45 am]

BILLING CODE 4160-18-M